DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Analysis of and Participation in Ocean Exploration Video Products.

OMB Control Number: 0648-0748.

Form Number(s): N/A.

Type of Request: Regular (revision of a currently approved collection).

Number of Respondents: 3,000.

Average Hours per Response: 10 minutes.

Burden Hours: 664 hours.

Needs and Uses: This collection is revised to add two new forms resulting in an increased number of respondents (1,000), responses (1,400), and burden hours (16).

It is important to address the needs of the shore-based scientists and public to maintain a high level of participation. We use voluntary surveys to identify the needs of users of data and best approaches to leverage expertise of shore-based participants for meaningful public engagement focused on ocean exploration. This information collection consists of four forms. (1) Sailing Contact Information (new). This form is sent to the few scientists that directly sail on NOAA Ship Okeanos Explorer. The ship's operational officer needs certain information such as: If a sailing individual has securely submitted their proper medical documents to NOAA's Office of Marine and Aviation Operations, if the person is up to date with required security documents such as a passport, if the ship is traveling to a foreign port, or any dietary restrictions so that the person will be served food that is safe. (2) Okeanos Explorer Participation Assessment. This voluntary form is sent to the scientists that sailed on any Okeanos Explorer cruise funded by NOAA's Office of Ocean Exploration and Research to record any feedback they wish to provide to the office about their experience. The office uses their feedback in assessments for improving the utility and experience of these scientific guests sailing on the Okeanos Explorer. (3) EX Collaboration Tools Feedback (new). This voluntary form is sent to members of the marine scientific community at the beginning of a fiscal year to ask if members would like to participate in any of the upcoming cruises and to what degree, such as simply asking to be included in emailed updates or if they want to be on a direct line to the ship for remotely operated vehicle dive operations. (4) Citizen Scientist. This voluntary form is available to general members of the public and is used for members to improve the annotation efforts when watching short video clips of 30 seconds to 5 minutes.

Affected Public: Targeted towards the greater ocean exploration community Individuals or households; business or other for-profit organizations; not-for-profit institutions; Federal government.

Frequency: EX Collaboration Tools Feedback: annually; all other forms are on occasion.

Respondent's Obligation: Sailing Contact Information: Required to obtain or retain benefits; all other forms are voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-00536 Filed 1-14-20; 8:45 am]

BILLING CODE 3510-KD-P